DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 34643-34644, dated June 6, 2015) is amended to reflect the reorganization of the National Institute for Occupational Safety and Health, Centers for Disease Control and Prevention.

Section C-B, Organization and Functions, is hereby amended as follows:

After the title and the function statement for the Western States Division (CCQ) insert the following:

Pittsburgh Mining Research Division (CCR). Provides leadership for the prevention of work-related illness, injury, and fatalities of mine workers through research and prevention activities of the Pittsburgh Mining Research Division (PMRD). Specifically PMRD: (1) Conducts field studies to identify emerging hazards, to understand the underlying causes of mine safety and health problems, and to evaluate the effectiveness of interventions; (2) develops engineering and behavioral-based interventions, including training programs, to improve safety and health in the mines, trains mine safety and health instructors, and for evaluation purposes, conducts mine emergency, mine rescue and escape training for miners and mine rescue teams; (3) performs research, development, and testing of new technologies, equipment, and practices to enhance mine safety and health; (4) develops best practices guidance for interventions; (5) transfers mining research and prevention products into practice; and (6) coordinates, with the Spokane Mining Research Division, NIOSH research and prevention activities for the mining sector.

Health Communications, Surveillance and Research Support Branch (CCRB). (1) Collects and analyzes health and safety data related to mining occupations in order to report on the overall incidence, prevalence and significance of occupational safety and health problems in mining; (2) describes trends in incidence of mining-related fatalities, morbidity, and traumatic injury; (3) conducts surveillance on the use of new technology, the use of engineering controls, and the use of protective equipment in the mining sector; (4) coordinates surveillance activities with other NIOSH surveillance initiatives; (5) provides statistical support for surveillance and research activities of the division; (6) analyzes and assists in the development of research protocols for developing studies; (7) coordinates planning, analysis, and evaluation of the mining research program for achieving organizational goals; (8) collaborates with research staff to translate findings from laboratory research to produce compelling products that motivate the mining sector to engage in improved injury control and disease prevention activities; (9) coordinates with other health communication, health education, and information dissemination activities within NIOSH and CDC to ensure that mining research information is effectively integrated into the CDC dissemination and intervention strategies; and (10) supports mining research through the development and application of computational tools and techniques that advance the understanding and mitigation of mining health and safety problems.

Ground Control Branch (CCRC). (1) Conducts laboratory and field investigations of catastrophic events such as cataclysmic structural or ground failures to better understand cause and effect relationships that initiate such events; (2) designs, evaluates, and implements appropriate intervention strategies and engineering controls to prevent ground failures; (3) develops, tests, and promotes the use of rock safety engineering prediction and risk evaluation systems for control or reduction of risk; (4) conducts laboratory and field investigations of surface mining operations to ensure appropriate engineering designs to prevent slope and highwall failures; (5) conducts research using a variety of techniques including numerical modeling and laboratory testing and experiments to ensure a full understanding of rock behavior and performance during rock excavation and mining operations; (6) develops, tests, and demonstrates sensors, predictive models, and engineering control technologies to reduce miners risk for injury or death; and (7) conducts research investigations using a wide-variety of measurement and sensor technologies including in-mine and surface systems and technologies to ensure the structural stability of mining operations.

Dust, Ventilation and Toxic Substances Branch (CCRD). (1) Develops, plans, and implements a program of research to develop or improve personal and area direct reading instruments for measuring mining contaminants including, but not limited to, respirable dust, silica, diesel particulates and exhaust and a variety of toxic and other potentially harmful exposures; (2) conducts field tests, experiments, and demonstrations of new technology for monitoring and assessing mine air quality; (3) designs, plans, and implements laboratory and field research to develop airborne hazard reduction control technologies; (4) carries out field surveys in mines to identify work organization strategies that could result in reduced dust exposures, diesel particulate exposures, toxic substance exposures and exposures to other potentially harmful exposures; (5) evaluates the performance, economics, and technical feasibility of engineering control strategies, novel approaches, and the application of new or emerging technologies for underground and surface mine dust and respiratory hazard control systems; (6) develops and evaluates implementation strategies for using newly developed monitors and control technology for exposure reduction or prevention; and (7) conducts field and laboratory experiments on mine ventilation systems to develop improved technologies and strategies for applications to dust control, gas control, diesel exhaust control to ensure safe and healthy conditions for underground miners.

Human Factors Branch (CCRE). Seeking to improve the health and safety of mineworkers, the branch systematically identifies, understands, and evaluates interactions within the mining work system, including the organizational and physical environment, tools and technology, job tasks and social factors. Researchers use a range of established and novel methods to study how the interactions among various individual, environmental, and organizational factors, along with tools and technology affect the mining work process and work system, and how these processes impact worker perceptions, decisions, behavior, health and well-being. The branch: (1) Conducts research with an overarching focus on the human component in the mining workplace system and in the mine emergency response system including: Designing and testing of proposed interventions related to workplace safety management systems and mine emergency response, rescue and escape systems, including demonstrations of proposed technologies using laboratory mock-ups, full-scale demonstrations at the division's experimental mines, assessments and demonstrations in the branch's virtual reality immersive environment research labs, and field evaluations in operating mines; (2) develops interventions, conducts evaluations and recommends intervention implementation strategies for injury prevention and control technologies developed by the division; (3) conducts human factors research related to worker perceptions, judgment and decision making, hazard recognition, human behavior; and (4) provides effective training and work place organization techniques and strategies for mining.

Electrical and Mechanical Systems Safety Branch (CCRF). (1) Conducts laboratory, field, and computer modeling research to assess the health and safety relevance of mining equipment design features; (2) using scientific and engineering techniques, analyzes case-studies of injuries and fatalities resulting from mining equipment and develops interventions and strategies for reducing or eliminating the hazards; (3) conducts laboratory and field research to assess the safety hazards of electrical systems used in mining operations and develops interventions and strategies to reduce or eliminate the hazards; (4) develops novel approaches for improving the operational safety of working around, and on, mining machinery; and (5) conducts laboratory and field research on communication systems, tracking systems and monitoring systems as needed to ensure their viability and safety during routine mining operations as well as post-disaster conditions.

Fires and Explosions Branch (CCRG). (1) Conducts experiments and studies at the Bruceton Experimental Mine, the Bruceton Safety Research Coal Mine, and similar facilities as well as field experiments at operating mines to prevent catastrophic events such as mine explosions, mine fires, and gas and water inundations to better understand cause and effect relationships which initiate such events; (2) develops new or improved strategies and technologies for mine fire prevention, detection, control, and suppression; (3) investigates and develops an understanding of the critical parameters and their interrelationships governing the mitigation and propagation of explosions, and develops and facilitates the implementation of interventions to prevent mine explosions; (4) develops new controls and strategies for eliminating explosions or fires or minimizing the impact of explosions on the safety of mine workers by improving suppression systems, improving detection of sentinel events; (5) works with the mining industry and other government agencies to ensure research gaps and technology needs are met for preventing any and all types of events that could lead to mine explosions, sustained fires or inundations; and (6) identifies and evaluates emerging health and safety issues as mining operations move into more challenging and dangerous geologic conditions.

Workplace Health Branch (CCRH). (1) Plans and conducts laboratory and field research on all aspects of workplace health including noise-induced hearing loss in miners, cumulative and repetitive injuries and the identification of potential related health and safety hazards; (2) specific to excessive noise levels, conducts field dosimetric and audiometric surveys to assess the extent and severity of the problem; (3) specific to cumulative and repetitive injuries, conducts laboratory and field studies to identify the risk factors most responsible for causing injuries to mine workers at surface and underground operations and develops interventions, conducts evaluations and recommends intervention strategies for cumulative and repetitive injuries; (4) conducts field and laboratory research to identify noise generation sources and develops, tests, and demonstrates new control technologies for noise reduction; (5) evaluates the technical and economic feasibility of noise reduction controls; (6) designs and conducts surveillance based research studies to identify and classify risk factors that cause, or may cause, repetitive and cumulative injuries to miners; (7) conducts research studies to further the understanding of operating equipment on the role of mine worker musculoskeletal disorders in the underground and surface environment; and (8) develops strategies, technologies and approaches for improving the operational aspects of mining systems for mine worker comfort and health.

Spokane Mining Research Division (CCS). (1) Provides leadership for prevention of work-related illness, injury, and death in the mining industry with an emphasis on the special needs in the western United States; (2) develops numerical models and conducts laboratory and field investigations to better understand the causes of catastrophic failures in underground metal/nonmetal mines that may lead to multiple injuries and fatalities; (3) develops new design practices and tools, control technologies, and work practices to reduce the risk of these global and local ground failures in underground metal/nonmetal mines; (4) conducts numerical studies and field investigations to understand the problems of ventilating deep and multilevel underground mines, and develops improved design approaches and engineering controls to reduce the concentration of toxic substances in the mine air; (5) conducts laboratory and field studies to help leverage and support the Institute's mining research program; (6) develops and recommends appropriate criteria for new standards, NIOSH policy, documents, or testimony related to health and safety in the mining industry.

Delete in its entirety the title and function statements for the Office of Mine Safety and Health Research (CCM).

James Seligman,
Acting Chief Operating Officer, Centers for Disease Control and Prevention.

[FR Doc. 2015-24007 Filed 9-21-15; 8:45 am]

BILLING CODE 4160-18-P